DEPARTMENT OF COMMERCE

International Trade Administration

(A-570-851)

Certain Preserved Mushrooms From the People’s Republic of China: Notice of Rescission of Antidumping Duty Administrative Review

AGENCY: Import Administration, International Trade Administration, Department of Commerce.

SUMMARY: The Department of Commerce (the Department) is rescinding its administrative review of the antidumping duty order on certain preserved mushrooms from the People’s Republic of China for the period February 1, 2007 to January 31, 2008.

EFFECTIVE DATE: July 24, 2008.

FOR FURTHER INFORMATION CONTACT: FOR MORE INFORMATION, CONTACT: Tyler R. Weinhold, or Robert James AD/CVD Operations, Office 7, Import Administration, International Trade Administration, U.S. Department of Commerce, 14th Street and Constitution Avenue NW, Washington, DC 20230; telephone: (202) 482-2657 and (202) 482-0649, respectively.

SUPPLEMENTARY INFORMATION:

Background

On February 4, 2008, the Department published in the Federal Register its notice of opportunity to request an administrative review of the antidumping duty order on certain preserved mushrooms from the People’s Republic of China for the period February 1, 2007 to January 31, 2008. See Antidumping or Countervailing Duty Order, Finding, or Suspended Investigation; Opportunity To Request Administrative Review, 73 FR 6477 (February 4, 2008). In response, on February, 29, 2008, FujianYu Xung Fruit and Vegetable Foodstuff Development Co. (Yu Xing) submitted a request for an administrative review. Petitioners in this case did not request an administrative review. On March 31, 2008, the Department initiated an administrative review of Yu Xing. See Initiation of Antidumping and Countervailing Duty Administrative Reviews, Request for Revocation in Part, and Deferral of Administrative Review, 73 FR 16837 (March 31, 2008). Yu Xing submitted a letter withdrawing its request for an administrative review on June 30, 2008.¹

¹ The 90th day after the initiation of the review was Sunday, June 29, 2008; accordingly, Yu Xing submitted its withdrawal letter the following business day.

Rescission of Review

Section 351.213(d)(1) of the Department’s regulations provides that the Department will rescind an administrative review if the party that requested the review withdraws its request for review within 90 days of the date of publication of the notice of initiation of the requested review, or withdraws at a later date if the Department determines it is reasonable to extend the time limit for withdrawing the request. In response to Yu Xing’s timely withdrawal of its request for an administrative review, and pursuant to section 351.213(d)(1) of the Department’s regulations, the Department hereby rescinds the administrative review of the antidumping duty order on certain preserved mushrooms from the People’s Republic of China for the period February 1, 2007, to January 31, 2008.

The Department will issue appropriate assessment instructions directly to U.S. Customs and Border Protection (CBP) 15 days after the publication of this notice. The Department will direct CBP to assess antidumping duties for Yu Xing at the cash deposit rate in effect at the time of entry.

Notification to Importers

This notice serves as a final reminder to importers of their responsibility under section 351.402(f) of the Department’s regulations to file a certificate regarding the reimbursement of antidumping duties prior to liquidation of the relevant entries during this review period. Failure to comply with this requirement could result in the Secretary’s assumption that reimbursement of antidumping duties occurred and subsequent assessment of double antidumping duties.

This notice also serves as a reminder to parties subject to administrative protective order (APO) of their responsibility concerning the disposition of proprietary information disclosed under APO in accordance with section 351.305(a)(3) of the Department’s regulations. Timely written notification of the return/destruction of APO materials or conversion to judicial protective order is hereby requested. Failure to comply with the regulations and the terms of an APO is a sanctionable violation.

This notice is published in accordance with section 777(i)(1) of the Tariff Act of 1930, as amended, and 19 CFR 351.213(d)(4).

Dated: July 16, 2008.
Stephen J. Claeys,
Deputy Assistant Secretary for Import Administration.

[FR Doc. E8-16999 Filed 7-23-08; 8:45 am]

BILLING CODE 3510-DS-S